DEPARTMENT OF THE TREASURY

Privacy Act of 1974; Systems of Records

AGENCY: Department of the Treasury.

ACTION: Notice of systems of records.

SUMMARY: In accordance with the requirements of the Privacy Act of 1974, as amended, 5 U.S.C. 552a, the Department is publishing its Privacy Act systems of records.

SUPPLEMENTARY INFORMATION: Pursuant to the Privacy Act of 1974 (5 U.S.C. 552a) and the Office of Management and Budget (OMB) Circular No. A-130, the Department has completed a review of its Privacy Act systems of records notices to identify minor changes that will more accurately describe these records. Such changes throughout the document are editorial in nature and consist principally of changes to system locations and system manager addresses, and revisions to organizational titles. This publication also includes the new Treasury-wide system of records entitled “Treasury .012-Fiscal Service Public Key Infrastructure,” published June 1, 2005, at 70 FR 31559. The notices were last published on February 19, 2002, at 67 FR 7459.

The systems notices are reprinted in their entirety following the Table of Contents.

Systems Covered by This Notice

This notice covers all systems of records adopted up to July 11, 2005.

Dated: July 21, 2005.
Nicholas Williams,
Deputy Assistant Secretary for Headquarters Operations.

Department of the Treasury

Table of Contents

Treasury .001—Treasury Payroll and Personnel System

Treasury .002—Grievance Records

Treasury .003—Treasury Child Care Tuition Assistance Records

Treasury .004—Freedom of Information Act/Privacy Act Request Records

Treasury .005—Public Transportation Incentive Program Records

Treasury .006—Parking and Carpool Program Records

Treasury .007—Personnel Security System

Treasury .008—Treasury Emergency Management System

Treasury .009—Treasury Financial Management Systems

Treasury .010—Telephone Call Detail Records

Treasury .011—Treasury Safety Incident Management Information System (SIMIS)

Treasury .012—Fiscal Service Public Key Infrastructure

TREASURY .001

System name:

Treasury Personnel and Payroll System—Treasury.

System location:

The Shared Development Center of the Treasury Personnel/Payroll System is located at 1750 Pennsylvania Avenue NW., Suite 1300, Washington, DC 20220. The Treasury Personnel System processing site is located at the Internal Revenue Service Detroit Computing Center, 985 Michigan Avenue, Detroit, MI 48226. The Treasury Payroll processing site is located at the United States Department of Agriculture National Finance Center, 13800 Old Gentilly Road, New Orleans, LA 70129.

The locations at which the system is maintained by all Treasury components, except the Office of Thrift Supervision, and their associated field offices are:

(1) Departmental Offices (DO):

a. 1500 Pennsylvania Ave., NW., Washington, DC 20220.

b. The Office of Inspector General (OIG): 740 15th Street, NW., Washington, DC 20220.

c. Treasury Inspector General for Tax Administration (TIGTA): 1125 15th Street, NW., Suite 700A, Washington, DC 20005.

(2) Alcohol and Tobacco Tax and Trade Bureau (TTB): 1310 G. St., NW., Washington, DC 20220.

(3) Office of the Comptroller of the Currency (OCC): 250 E Street, SW., Washington, DC 20219-0001.

(4) Bureau of Engraving and Printing (BEP): 14th & C Streets, SW., Washington, DC 20228.

(5) Financial Management Service (FMS): 401 14th Street, SW., Washington, DC 20227.

(6) Internal Revenue Service (IRS): 1111 Constitution Avenue, NW., Washington, DC 20224.

(7) United States Mint (MINT): Avery Street Building, 320 Avery Street, Parkersburg, WV.

(8) Bureau of Public Debt (BPD): 999-E Street, NW., Washington, DC 20239.

(9) Financial Crimes Enforcement Network (FinCEN), Vienna, VA 22183-0039.

Categories of individuals covered by the system:

Employees, former employees, and applicants for employment, in all Treasury Department bureaus and offices, except the Office of Thrift Supervision.

Categories of records in the system:

Information contained in this system includes such data as: (1) Employee identification and status data such as name, social security number, date of birth, sex, race and national origin designator, awards received, suggestions, work schedule, type of appointment, education, training courses attended, veterans preference, and military service; (2) employment data such as service computation for leave, date probationary period began, date of performance rating, and date of within-grade increases; (3) position and pay data such as position identification number, pay plan, step, salary and pay basis, occupational series, organization location, and accounting classification codes; (4) payroll data such as earnings (overtime and night differential), deductions (Federal, state and local taxes, bonds and allotments), and time and attendance data; (5) employee retirement and Thrift Savings Plan data; (6) employment history, and (7) tables of data for editing, reporting and processing personnel and pay actions. These include nature of action codes, civil service authority codes, standard remarks, signature block table, position title table, financial organization table, and salary tables.

Authority for maintenance of the system:

5 U.S.C. 301; 31 U.S.C. 321; Treasury Directive 80-05, Records and Information Management Program.

Purpose(s):

The purposes of the system include, but are not limited to: (1) Maintaining current and historical payroll records that are used to compute and audit pay entitlement; to record history of pay transactions; to record deductions, leave accrued and taken, bonds due and issued, taxes paid; maintaining and distributing Leave and Earnings statements; commence and terminate allotments; answer inquiries and process claims; and (2) maintaining current and historical personnel records and preparing individual administrative transactions relating to education and training; classification; assignment; career development; evaluation; promotion, compensation, separation and retirement; making decisions on the rights, benefits, entitlements and the utilization of individuals; providing a data source for the production of reports, statistical surveys, rosters, documentation, and studies required for the orderly personnel administration within Treasury; and (3) maintaining employment history.

Routine uses of records maintained in the system, including categories of users and the purposes of such uses:

These records may be used to:

(1) Furnish data to the Department of Agriculture, National Finance Center (which provides payroll and personnel processing services for Treasury under a cross-servicing agreement) affecting the conversion of Treasury employee payroll and personnel processing services; the issuance of paychecks to employees and distribution of wages; and the distribution of allotments and deductions to financial and other institutions, some through electronic funds transfer;

(2) Furnish the Internal Revenue Service and other jurisdictions which are authorized to tax employees' compensation with wage and tax information in accordance with a withholding agreement with the Department of the Treasury pursuant to 5 U.S.C. 5516, 5517, and 5520, for the purpose of furnishing employees with IRS Forms W-2 that report such tax distributions;

(3) Provide records to the Office of Personnel Management, Merit Systems Protection Board, Equal Employment Opportunity Commission, and General Accounting Office for the purpose of properly administering Federal personnel systems or other agencies' systems in accordance with applicable laws, Executive Orders, and regulations;

(4) Furnish another Federal agency with information necessary or relevant to effect interagency salary or administrative offset, except that addresses obtained from the Internal Revenue Service shall not be disclosed to other agencies; to furnish a consumer reporting agency information to obtain commercial credit reports; and to furnish a debt collection agency information for debt collection services. Current mailing addresses acquired from the Internal Revenue Service are routinely released to consumer reporting agencies to obtain credit reports and are arguably relevant to debt collection agencies for collection services;

(5) Disclose information to a Federal, state, local, or foreign agency maintaining civil, criminal, or other relevant enforcement information or other pertinent information, that has requested information relevant to or necessary to the requesting agency's hiring or retention of an individual, or issuance of a security clearance, license, contract, grant, or other benefit;

(6) Disclose information to a court, magistrate, or administrative tribunal in the course of presenting evidence, including disclosures to opposing counsel or witnesses in the course of civil discovery, litigation or settlement negotiations in response to a subpoena where arguably relevant to a proceeding, or in connection with criminal law proceedings;

(7) Disclose information to foreign governments in accordance with formal or informal international agreements;

(8) Provide information to a congressional office in response to an inquiry made at the request of the individual to whom the record pertains;

(9) Provide information to the news media in accordance with guidelines contained in 28 CFR 50.2, which relates to civil and criminal proceedings;

(10) Provide information to third parties during the course of an investigation to the extent necessary to obtain information pertinent to the investigation;

(11) Provide information to unions recognized as exclusive bargaining representatives under the Civil Service Reform Act of 1978, 5 U.S.C. 7111 and 7114;

(12) Provide wage and separation information to another agency, such as the Department of Labor or Social Security Administration, as required by law for payroll purposes;

(13) Provide information to a Federal, state, or local agency so that the agency may adjudicate an individual's eligibility for a benefit, such as a state employment compensation board, housing administration agency, and Social Security Administration;

(14) Disclose pertinent information to appropriate Federal, state, local or foreign agencies responsible for investigating or prosecuting the violation of, or for implementing, a statute, regulation, order, or license, where the disclosing agency becomes aware of a potential violation of civil or criminal law or regulation;

(15) Disclose information about particular Treasury employees to requesting agencies or non-Federal entities under approved computer matching efforts, limited only to those data elements considered relevant to making a determination of eligibility under particular benefit programs administered by those agencies or entities or by the Department of the Treasury or any constituent unit of the Department, to improve program integrity, and to collect debts and other money owed under those programs (e.g., matching for delinquent loans or other indebtedness to the government);

(16) Disclose to the Office of Child Support Enforcement, Administration for Children and Families, Department of Health and Human Services, the names, social security numbers, home addresses, dates of birth, dates of hire, quarterly earnings, employer identifying information, and State of hire of employees, for the purposes of locating individuals to establish paternity, establishing and modifying orders of child support, identifying sources of income, and for other child support enforcement activities as required by the Personal Responsibility and Work Opportunity Reconciliation Act (Welfare Reform Law, Pub. L. 104-193);

(17) Disclose information to contractors, grantees, experts, consultants, students, and others performing or working on a contract, service, grant, cooperative agreement, or other assignment for the Department of the Treasury, when necessary to accomplish an agency function.

Disclosure to consumer reporting agencies:

Disclosures may be made pursuant to 5 U.S.C. 552a(b)(12) and section 3 of the Debt Collection Act of 1982, Public Law 97-365; debt information concerning a government claim against an individual is also furnished, in accordance with 5 U.S.C. 552a(b)(12) and section 3 of the Debt Collection Act of 1982, to consumer reporting agencies to encourage repayment of an overdue debt. Disclosures may be made to a consumer reporting agency as defined in the Fair Credit Reporting Act, 15 U.S.C. 1681a(f), or the Federal Claims Collection Act of 1966, 31 U.S.C. 701(a)(3).

Policies and practices for storing, retrieving, accessing, retaining, and disposing of records in the system:

Storage:

Electronic records, microfiche, and hard copy. Disbursement records are stored at the Federal Records Center.

Retrievability:

Records are retrieved generally by social security number, position identification number within a bureau and sub-organizational element, employee identification or employee name. Secondary identifiers are used to assure accuracy of data accessed, such as master record number or date of birth.

Safeguards:

Entrances to data centers and support organization offices are restricted to those employees whose work requires them to be there for the system to operate. Identification (ID) cards are verified to ensure that only authorized personnel are present. Disclosure of information through remote terminals is restricted through the use of passwords and sign-on protocols, which are periodically changed. Reports produced from the remote printers are in the custody of personnel and financial management officers and are subject to the same privacy controls as other documents of similar sensitivity.

Retention and Disposal:

The current payroll and personnel system and the personnel and payroll system's master files are kept as electronic media. Information rendered to hard copy in the form of reports and payroll information documentation is also retained in an electronic media format. Employee records are retained in automated form for as long as the employee is active on the system (separated employee records are maintained in an “inactive” status). Files are purged in accordance with Treasury Directive 80-05, “Records and Information Management Program.”

System Manager(s) and Address:

Department of the Treasury: Official prescribing policies and practices: Director, Office of Human Resources Enterprise Solutions, 1750 Pennsylvania Avenue NW., Washington, DC 20220.

The systems managers for the Treasury components are:

(1) a. DO: Director, Office of HR Operations for Departmental Offices, 1500 Pennsylvania Avenue, NW., Room 5202 MT, Washington, DC 20220.

b. OIG: Personnel Officer, 740 15th Street NW., Suite 500, Washington, DC 20220.

c. TIGTA: Director, Human Resources, 1125 15th Street, NW., Suite 700A, Washington, DC 20005.

(2) TTB: Chief, Personnel Division, 1310 G. St., NW., Washington, DC 20220.

(3) OCC: Director, Human Resources, 250 E Street, SW., Washington, DC 20219.

(4) BEP: Chief, Office of Human Resources, 14th & C Streets, SW., Room 202-13A, E&P Annex, Washington, DC 20228.

(5) FMS: Director, Personnel Management Division, 3700 East West Hwy, Room 115-F, Hyattsville, MD 20782.

(6) IRS: Associate Director, Transactional Processing Operations, 1111 Constitution Avenue, NW., CP6, A:PS:TP, 2nd Floor, Washington, DC 20224.

(7) MINT: Assistant Director for Human Resources, 801 9th Street, NW., 7th Floor, Washington, DC 20220.

(8) BPD: Director, Human Resources Operations Division, Avery Street Building, 320 Avery Street, Parkersburg, WV.

(9) FinCEN: Chief of Personnel and Training, Vienna, VA 22183-0039.

Notification Procedure:

Individuals seeking notification and access to any record contained in the system of records, or seeking to contest its content, may inquire in accordance with instructions pertaining to individual Treasury components appearing at 31 CFR part 1, subpart C, appendices A-L.

Record Access Procedures:

See “Notification procedure” above.

Contesting Record Procedures:

See “Notification procedure” above.

Record Source Categories:

The information contained in these records is provided by or verified by the subject of the record, supervisors, and non-Federal sources such as private employers.

Exemptions Claimed for the System:

None.

TREASURY .002

System name:

Grievance Records—Treasury.

System location:

Department of the Treasury, 1500 Pennsylvania Ave., NW., Washington, DC 20220. These records are located in personnel or designated offices in the bureaus in which the grievances were filed. The locations at which the system is maintained are:

(1) a. Departmental Offices (DO): 1500 Pennsylvania Ave., NW., Washington, DC 20220.

b. The Office of Inspector General (OIG): 740 15th Street, NW., Washington, DC 20220.

c. Treasury Inspector General for Tax Administration (TIGTA): 1125 15th Street, NW., Suite 700A, Washington, DC 20005.

(2) Alcohol and Tobacco Tax and Trade Bureau (TTB): 1310 G. St., NW., Washington, DC 20220.

(3) Office of the Comptroller of the Currency (OCC): 250 E Street, NW., Washington, DC 20219-0001.

(4) Bureau of Engraving and Printing (BEP): 14th & C Streets, SW., Washington, DC 20228.

(5) Financial Management Service (FMS): 401 14th Street, SW., Washington, DC 20227.

(6) Internal Revenue Service (IRS): 1111 Constitution Avenue, NW., Washington, DC 20224.

(7) United States Mint (MINT): 801 9th Street, NW., Washington, DC 20220.

(8) Bureau of the Public Debt (BPD): Avery Street Building, 320 Avery Street, Parkersburg, WV.

(9) Office of Thrift Supervision (OTS): 1700 G Street, NW., Washington, DC 20552.

(10) Financial Crimes Enforcement Network (FinCEN), Vienna, VA 22183-0039.

Categories of individuals covered by the system:

Current or former Federal employees who have submitted grievances with their bureaus in accordance with part 771 of the Office of Personnel Management's (OPM) regulations (5 CFR part 771), the Treasury Employee Grievance System (TPM Chapter 771), or a negotiated procedure.

Categories of records in the system:

The system contains records relating to grievances filed by Treasury employees under part 771 of the OPM's regulations. These case files contain all documents related to the grievance including statements of witnesses, reports of interviews and hearings, examiner's findings and recommendations, a copy of the original and final decision, and related correspondence and exhibits. This system includes files and records of internal grievance and arbitration systems that bureaus and/or the Department may establish through negotiations with recognized labor organizations.

Authority for maintenance of the system:

5 U.S.C. 1302, 3301, 3302; E.O. 10577; 3 CFR 1954-1958 Comp., p. 218; E.O. 10987; 3 CFR 1959-1963 Comp., p. 519; agency employees, for personal relief in a matter of concern or dissatisfaction which is subject to the control of agency management.

Purpose(s):

To adjudicate employee administrative grievances filed under the authority of 5 CFR part 771 and the Department's Administrative Grievance Procedure.

Routine uses of records maintained in the system, including categories of users and the purposes of such uses:

These records may be used:

(1) To disclose pertinent information to the appropriate Federal, state, or local agency responsible for investigating, prosecuting, enforcing, or implementing a statute, rule, regulation, or order, where the disclosing agency becomes aware of an indication of a violation or potential violation of civil or criminal law or regulation;

(2) To disclose information to any source from which additional information is requested in the course of processing in a grievance, to the extent necessary to identify the individual, inform the source of the purpose(s) of the request, and identify the type of information requested;

(3) To disclose information to a Federal agency, in response to its request, in connection with the hiring or retention of an individual, the issuance of a security clearance, the conducting of a security or suitability investigation of an individual, the classifying of jobs, the letting of a contract, or the issuance of a license, grant, or other benefit by the requesting agency, to the extent that the information is relevant and necessary to requesting the agency's decision on the matter;

(4) To provide information to a congressional office in response to an inquiry made at the request of the individual to whom the record pertains;

(5) To disclose information to another Federal agency or to a court when the Government is party to a judicial proceeding before the court;

(6) By the National Archives and Records Administration in records management inspections conducted under authority of 44 U.S.C. 2904 and 2908;

(7) By the bureau maintaining the records of the Department in the production of summary descriptive statistics and analytical studies in support of the function for which the records are collected and maintained, or for related work force studies. While published statistics and studies do not contain individual identifiers, in some instances the selection of elements of data included in the study may be structured in such a way as to make the data individually identifiable by inference;

(8) To disclose information to officials of the Merit Systems Protection Board, the Office of the Special Counsel, the Federal Labor Relations Authority and its General Counsel, the Equal Employment Opportunity Commission, or the Office of Personnel Management when requested in performance of their authorized duties;

(9) To disclose information to a court, magistrate, or administrative tribunal in the course of presenting evidence, including disclosures to opposing Counsel or witnesses in the course of civil discovery, litigation or settlement negotiations in response to a subpoena, or in connection with criminal law proceedings;

(10) To provide information to officials of labor organizations reorganized under the Civil Service Reform Act when relevant and necessary to their duties of exclusive representation concerning personnel policies, practices, and matters affecting work conditions.

Policies and practices for storing, retrieving, accessing, retaining, and disposing of records in the system:

Storage:

File folders.

Retrievability:

By the names of the individuals on whom they are maintained.

Safeguards:

Lockable metal filing cabinets to which only authorized personnel have access.

Retention and disposal:

Disposed of 3 years after closing of the case. Grievances filed against disciplinary adverse actions are retained by the United States Secret Service for 4 years. Disposal is by shredding or burning.

System manager(s) and address:

Records pertaining to administrative grievances filed at the Departmental level: Director, Office of Human Resources Strategy and Solutions, 1750 Pennsylvania Ave., NW., Suite 1200, Washington, DC 20220. Records pertaining to administrative grievances filed at the bureau level:

(1) a. DO: Director, Office of Human Resources for Departmental Offices, 1500 Pennsylvania Ave., NW., Room 5202-Main Treasury, Washington, DC 20220.

b. OIG: Personnel Officer, 740 15th St., NW., Rm. 510, Washington, DC 20220.

c. TIGTA: Director, Human Resources, 1125 15th Street, NW., Suite 700A, Washington, DC 20005.

(2) Alcohol and Tobacco Tax and Trade Bureau (TTB): 1310 G St., NW., Washington, DC 20220.

(3) OCC: Director, Human Resources, 250 E Street, SW., Washington, DC 20219.

(4) BEP: Chief, Office of Human Resources, 14th & C Streets, SW., Room 202-13A, E&P Annex, Washington, DC 20228.

(5) FMS: Director, Personnel Management Division, 3700 East West Hwy, Room 115-F, Hyattsville, MD 20782.

(6) IRS: Director, Office of Workforce Relations (M:S:L), 1111 Constitution Ave., NW., Room 1515IR, Washington, DC 20224.

(7) Mint: Assistant Director for Human Resources, 801 9th Street, NW., 7th Floor, Washington, DC 20220.

(8) BPD: Director, Human Resources Division, Avery Street Building, 320 Avery Street, Parkersburg, WV.

(9) OTS: Director, Human Resources Division, 2nd Floor, 1700 G Street, NW., Washington, DC 20552.

(10) FinCEN: Director, P.O. Box 39, Vienna, VA 22183-0039.

Notification procedure:

It is required that individuals submitting grievances be provided a copy of the record under the grievance process. They may, however, contact the agency personnel or designated office where the action was processed, regarding the existence of such records on them. They must furnish the following information for their records to be located and identified: (1) Name, (2) date of birth, (3) approximate date of closing of the case and kind of action taken, (4) organizational component involved.

Record access procedures:

It is required that individuals submitting grievances be provided a copy of the record under the grievance process. However, after the action has been closed, an individual may request access to the official copy of the grievance file by contacting the bureau personnel or designated office where the action was processed. Individuals must provide the following information for their records to be located and identified: (1) Name, (2) date of birth, (3) approximate date of closing of the case and kind of action taken, (4) organizational component involved.

Contesting record procedures:

Review of requests from individuals seeking amendment of their records which have been the subject of a judicial or quasi-judicial action will be limited in scope. Review of amendment requests of these records will be restricted to determining if the record accurately documents the action of the agency ruling on the case, and will not include a review of the merits of the action, determination, or finding.

Individuals wishing to request amendment to their records to correct factual errors should contact the bureau personnel or designated office where the grievance was processed. Individuals must furnish the following information for their records to be located and identified: (1) Name, (2) date of birth, (3) approximate date of closing of the case and kind of action taken, (4) organizational component involved.

Record source categories:

Information in this system of records is provided: (1) By the individual on whom the record is maintained, (2) by testimony of witnesses, (3) by agency officials, (4) from related correspondence from organizations or persons.

Exemptions claimed for the system:

None.

TREASURY .003

System name:

Treasury Child Care Tuition Assistance Records—Treasury.

System location:

Department of the Treasury, 1500 Pennsylvania Ave., NW., Washington, DC 20220. The locations at which the system is maintained by Treasury components are:

(1) a. Departmental Offices (DO): 1500 Pennsylvania Ave., NW., Washington, DC 20220.

b. The Office of Inspector General (OIG): 740 15th Street, NW., Washington, DC 20220.

c. Treasury Inspector General for Tax Administration (TIGTA): 1125 15th Street, NW., Washington, DC 20005.

(2) Alcohol and Tobacco Tax and Trade Bureau (TTB): 1310 G. St., NW., Washington, DC 20220.

(3) Office of the Comptroller of the Currency (OCC): 250 E Street, NW., Washington, DC 20219-0001.

(4) Bureau of Engraving and Printing (BEP): 14th & C Streets, SW., Washington, DC 20228.

(5) Financial Management Service (FMS): 401 14th Street, SW., Washington, DC 20227.

(6) Internal Revenue Service (IRS): 1111 Constitution Avenue, NW., Washington, DC 20224.

(7) United States Mint (MINT): 801 9th Street, NW., Washington, DC 20220.

(8) Bureau of the Public Debt (BPD): Avery Street Building, 320 Avery Street, Parkersburg, WV.

(9) Office of Thrift Supervision (OTS): 1700 G Street, NW., Washington, DC 20552.

Categories of individuals covered by the system:

Employees of the Department of the Treasury who voluntarily apply for child care tuition assistance, the employee's spouse, their children and their child care providers.

Categories of records in the system:

Records may include application forms for child care tuition assistance containing personal information, including employee (parent) name, Social Security Number, pay grade, home and work numbers, addresses, telephone numbers, total family income, names of children on whose behalf the parent is applying for tuition assistance, each child's date of birth, information on child care providers used (including name, address, provider license number and State where issued, tuition cost, and provider tax identification number), and copies of IRS Form 1040 and 1040A for verification purposes. Other records may include the child's social security number, weekly expense, pay statements, records relating to direct deposits, verification of qualification and administration for the child care tuition assistance.

Authority for maintenance of the system:

Public Law 106-58, section 643 and E.O. 9397.

Purpose(s):

To establish and verify Department of the Treasury employees' eligibility for child care subsidies in order for the Department of the Treasury to provide monetary assistance to its employees. Records are also maintained so the Department can make payments to child care providers on an employee's behalf.

Routine uses of records maintained in the system, including categories of users and the purposes of such uses:

These records may be used to:

(1) Disclose pertinent information to the appropriate Federal, State, or local agency responsible for investigating, prosecuting, enforcing, or implementing a statute, rule, regulation, or order, where the Department of the Treasury becomes aware of an indication of a violation or potential violation of civil or criminal law or regulation;

(2) Provide information to a congressional office from the record of an individual in response to an inquiry from that congressional office made at the request of that individual;

(3) Disclose information to another Federal agency, to a court, or a party in litigation before a court or in an administrative proceeding being conducted by a Federal agency, when the Government is a party to the judicial or administrative proceeding. In those cases where the Government is not a party to the proceeding, records may be disclosed if a subpoena has been signed by a judge;

(4) Disclose information to the National Archives and Records Administration for use in records management inspections;

(5) Disclose information to the Department of Justice, or in a proceeding before a court, adjudicative body, or other administrative body before which the Department of the Treasury is authorized to appear, when: (a) The Department of the Treasury, or any component thereof; or (b) any employee of the Department of the Treasury in his or her official capacity; or (c) any employee of the Department of the Treasury in his or her individual capacity where the Department of Justice or the Department of the Treasury has agreed to represent the employee; or (d) the United States, when the Department of the Treasury determines that litigation is likely to affect the Department of the Treasury or any of its components; is a party to litigation or has an interest in such litigation, and the use of such records by the Department of Justice or the Department of the Treasury is deemed by the Department of the Treasury to be relevant and necessary to the litigation; provided, however, that the disclosure is compatible with the purpose for which records were collected;

(6) Provide records to the Office of Personnel Management, Merit Systems Protection Board, Equal Employment Opportunity Commission, Federal Labor Relations Authority, the Office of Special Counsel, and General Accounting Office for the purpose of properly administering Federal personnel systems or other agencies' systems in accordance with applicable laws, Executive Orders, and regulations;

(7) Disclose information to contractors, grantees, or volunteers performing or working on a contract, service, grant, or cooperative agreement, or job for the Federal Government;

(8) Disclose information to a court, magistrate, or administrative tribunal when necessary and relevant in the course of presenting evidence, including disclosures to opposing counsel or witnesses in the course of civil discovery, litigation, or settlement negotiations or in connection with criminal law proceedings or in response to a subpoena;

(9) Disclose information to unions recognized as exclusive bargaining representatives under 5 U.S.C. chapter 71, and other parties responsible for the administration of the Federal labor-management program if needed in the performance of their authorized duties.

Policies and practices for storing, retrieving, accessing, retaining, and disposing of records in the system:

Storage:

Information may be collected on paper or electronically and may be stored as paper forms or on computers.

Retrievability:

By name; may also be cross-referenced to Social Security Number.

Safeguards:

When not in use by an authorized person, paper records are stored in lockable file cabinets or secured rooms. Electronic records are protected by the use of passwords.

Retention and disposal:

Disposition of records is according to the National Archives and Records Administration (NARA) guidelines.

System manager(s) and address:

Treasury official prescribing policies and practices: Director, Office of Human Resources Strategy and Solutions, 1750 Pennsylvania Ave., NW., Suite 1200, Department of the Treasury, Washington, DC 20220. Officials maintaining the system and records for the Treasury components are:

(1) DO:

a. Director, Office of Human Resources for Departmental Offices, 1500 Pennsylvania Ave. NW., Room 5202-MT, Washington, DC 20220.

b. Office of General Counsel: Administrative Officer, Department of the Treasury, Room 1417-MT, Washington, DC 20220.

c. OIG: Personnel Officer, 740 15th St., NW., Suite 510, Washington, DC 20220.

d. TIGTA: Director, Human Resources, 1125 15th Street, NW., Suite 700A, Washington, DC 20005.

(2) TTB: Assistant Director, Office of Management, 1310 G. St., NW., Washington, DC 20220.

(3) OCC: Director, Human Resources Division, Independence Square, 250 E St., SW, 4th Floor, Washington, DC 20219.

(4) BEP: Chief, Office of Human Resources. 14th & C St., SW., Room 202-13a, Washington, DC 20228.

(5) FMS: Director, Human Resources Division, PG Center II Bldg, Rm. 114f, 3700 East West Highway, Hyattsville, MD 20782.

(6) IRS: Director Personnel Policy Division, 1111 Constitution Ave., Building CP6—M:S:P, Washington, DC 20224.

(7) MINT: Assistant Director for Human Resources, 801 9th Street, NW., 7th Floor, Washington, DC 20220.

(8) BPD: Child Care Assistance Program (CCAP) Coordinator, Avery Street Building, 320 Avery Street, Parkersburg, WV.

(9) OTS: Director, Human Resources Division, 1700 G St., NW., 2nd Floor, Washington, DC 20552.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

Information is provided by Department of the Treasury employees who apply for child care tuition assistance.

Exemptions claimed for the system:

None.

TREASURY .004

System name:

Freedom of Information Act/Privacy Act Request Records—Treasury.

System location:

Department of the Treasury, 1500 Pennsylvania Avenue, NW., Washington, DC 20220. The locations at which the system is maintained by Treasury components and their associated field offices are:

(1) Departmental Offices (DO), which includes the Office of Inspector General (OIG), and the Treasury Inspector General for Tax Administration (TIGTA);

(2) Alcohol and Tobacco Tax and Trade Bureau (TTB);

(3) Office of the Comptroller of the Currency (OCC);

(4) Bureau of Engraving and Printing (BEP);

(5) Financial Management Service (FMS);

(6) United States Mint (MINT);

(7) Bureau of the Public Debt (BPD);

(8) Office of Thrift Supervision (OTS);

(9) Financial Crimes Enforcement Network (FinCEN).

Categories of individuals covered by the system:

Individuals who have: (1) Requested access to records pursuant to the Freedom of Information Act, 5 U.S.C. 552, (FOIA) or who have appealed initial denials of their requests; and/or (2) made a request for access, amendment or other action pursuant to the Privacy Act of 1974, 5 U.S.C. 552a (PA).

Categories of records in the system:

Requests for records or information pursuant to the FOIA and/or PA which includes the names of individuals making written requests for records under the FOIA or the PA, the mailing addresses of such individuals, and the dates of such requests and their receipt. Supporting records include the written correspondence received from requesters and responses made to such requests; internal processing documents and memoranda, referrals and copies of records provided or withheld, and may include legal memoranda and opinions. Comparable records are maintained in this system with respect to any appeals made from initial denials of access, refusal to amend records and lawsuits under the FOIA/PA.

Authority for maintenance of the system:

Freedom of Information Act, 5 U.S.C. 552; Privacy Act of 1974, 5 U.S.C. 552a; and 5 U.S.C. 301.

Purpose(s):

The system is used by officials to administratively control and/or process requests for records to ensure compliance with the FOIA/PA and to collect data for the annual and biennial reporting requirements of the FOIA/PA and other Department management report requirements.

Routine uses of records maintained in the system, including categories of users and the purposes of such uses:

These records may be used to:

(1) Disclose pertinent information to appropriate Federal, foreign, State, local, tribal or other public authorities or self-regulatory organizations responsible for investigating or prosecuting the violations of, or for enforcing or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a subpoena, or in connection with criminal law proceedings;

(3) Provide information to a congressional office in response to an inquiry made at the request of the individual to whom the record pertains;

(4) Disclose information to another Federal agency to (a) permit a decision as to access, amendment or correction of records to be made in consultation with or by that agency, or (b) verify the identity of an individual or the accuracy of information submitted by an individual who has requested access to or amendment or correction of records;

(5) The Department of Justice when seeking legal advice, or when (a) the agency or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(6) Disclose information to the appropriate foreign, State, local, tribal, or other public authority or self-regulatory organization for the purpose of (a) consulting as to the propriety of access to or amendment or correction of information obtained from that authority or organization, or (b) verifying the identity of an individual who has requested access to or amendment or correction of records;

(7) Disclose information to contractors and other agents who have been engaged by the Department or one of its bureaus to provide products or services associated with the Department's or bureau's responsibility arising under the FOIA/PA;

(8) Disclose information to the National Archives and Records Administration for use in records management inspections.

Policies and practices for storing, retrieving, accessing, retaining, and disposing of records in the system:

Storage:

Electronic media, computer paper printout, index file cards, and paper records in file folders.

Retrievability:

Retrieved by name, subject, request file number or other data element as may be permitted by an automated system.

Safeguards:

Protection and control of any sensitive but unclassified (SBU) records are in accordance with TD P 71-10, Department of the Treasury Security Manual, and any supplemental guidance issued by individual bureaus. Access to the records is available only to employees responsible for the management of the system and/or employees of program offices who have a need for such information.

Retention and disposal:

The records pertaining to Freedom of Information Act and Privacy Act requests are retained and disposed of in accordance with the National Archives and Records Administration's General Record Schedule 14—Information Services Records.

System manager(s) and address:

Department of the Treasury: Official prescribing policies and practices—Departmental Disclosure Officer, Department of the Treasury, 1500 Pennsylvania Avenue, NW., Washington, DC 20220.

The system managers for the Treasury components are:

1. (a) DO: Director, Disclosure Services, Department of the Treasury, Washington, DC 20220.

(b) TIGTA: Disclosure Officer, 1125 15th Street, NW., Suite 700A, Washington, DC 20005.

2. Alcohol and Tobacco Tax and Trade Bureau (TTB): 1310 G. St., NW., Washington, DC 20220.

3. BEP: Disclosure Officer, FOIA Office, 14th & C Streets, SW., Washington, DC 20228.

5. FMS: Disclosure Officer, 401 14th Street, SW., Washington, DC 20227.

6. Mint: Disclosure Officer, Judiciary Square Building, 801 9th Street, NW., Washington, DC 20220.

7. OCC: Disclosure Officer, Communications Division, Washington, DC 20219.

9. BPD: Information Disclosure Officer, 999 E Street, NW., Washington, DC 20239.

11. OTS: Manager, Dissemination Branch, 1700 G Street, NW., Washington, DC 20552.

12. Financial Crimes Enforcement Network (FinCEN), P.O. Box 39, Vienna, VA 22182.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

The information contained in these files originates from individuals who make FOIA/PA requests and agency officials responding to those requests.

Exemptions claimed for the system:

None. The Department has claimed one or more exemptions (see 31 CFR 1.36) for a number of its other systems of records under 5 U.S.C. 552a (j)(2) and (k)(1), (2), (3), (4), (5), and (6). During the course of a FOIA/PA action, exempt materials from those other systems may become a part of the case records in this system. To the extent that copies of exempt records from those other systems have been recompiled and/or entered into these FOIA/PA case records, the Department claims the same exemptions for the records as they have in the original primary systems of records of which they are a part.

TREASURY .005

System name:

Public Transportation Incentive Program Records-Treasury.

System location:

Department of the Treasury, 1500 Pennsylvania Avenue, NW., Washington, DC 20220. The locations at which the system is maintained by Treasury bureaus and their associated field offices are:

(1) a. Departmental Offices (DO): 1500 Pennsylvania Ave., NW., Washington, DC 20220. b. The Office of Inspector General (OIG): 740 15th Street, NW., Washington, DC. 20220. c. Treasury Inspector General for Tax Administration (TIGTA): 1125 15th Street, NW., Washington, DC 20005.

(2) Alcohol and Tobacco Tax and Trade Bureau (TTB): 1310 G St., NW., Washington, DC 20220.

(3) Office of the Comptroller of the Currency (OCC): 250 E Street, SW., Washington, DC 20219-0001.

(4) Bureau of Engraving and Printing (BEP): 14th & C Streets, SW., Washington, DC 20228.

(5) Financial Management Service (FMS): 401 14th Street, SW., Washington, DC 20227.

(6) Internal Revenue Service (IRS): 1111 Constitution Avenue, NW., Washington, DC 20224.

(7) United States Mint (MINT): 801 9th St. NW., Washington, Dc 20220.

(8) Bureau of the Public Debt (BPD): Avery Street Building, 320 Avery Street, Parkersburg, WV.

(9) Office of Thrift Supervision (OTS): 1700 G Street, NW., Washington, DC 20552.

(10) Financial Crimes Enforcement Network (FinCEN), Vienna, VA 22182.

Categories of individuals covered by the system:

Employees who have applied for or who participate in the Public Transportation Incentive Program.

Categories of records in the system:

(1) Public Transportation Incentive Program application form containing the participant's name, last four digits of the social security number, or for IRS employees the Standard Employee Identifier (SEID) issued by the IRS, place of residence, office address, office telephone, grade level, duty hours, previous method of transportation, costs of transportation, and the type of fare incentive requested. Incentives authorized under the Federal Workforce Transportation Program may be included in this program.

(2) Reports submitted to the Department of the Treasury in accordance with Treasury Directive 74-10.

Authority for maintenance of the system:

5 U.S.C. 301, 26 U.S.C. 132(f), and Public Law 101-509.

Purpose(s):

The records are used to administer the public transportation incentive or subsidy programs provided by Treasury bureaus for eligible employees. The system also enables the Department to compare these records with other Federal agencies to ensure that employee transportation programs benefits are not abused.

Routine uses of records maintained in the system, including categories of users and the purposes of such uses:

These records may be used to disclose information to:

(1) Appropriate Federal, state, local, or foreign agencies responsible for investigating or prosecuting the violations of, or for enforcing or implementing, a statute, rule, regulation, order or license;

(2) A court, magistrate, or administrative tribunal in the course of presenting evidence, including disclosures to opposing counsel or witnesses in the course of civil discovery, litigation, or settlement negotiations, in response to a court-ordered subpoena where relevant or potentially relevant to a proceeding, or in connection with criminal law proceedings;

(3) A congressional office in response to an inquiry made at the request of the individual to whom the record pertains;

(4) Unions recognized as exclusive bargaining representatives under the Civil Service Reform Act of 1978, 5 U.S.C. 7111 and/or 7114;

(5) Agencies, contractors, and others to administer Federal personnel or payroll systems, and for debt collection and employment or security investigations;

(6) Other Federal agencies for matching to ensure that employees receiving PTI Program benefits are not listed as a carpool or vanpool participant, the holder of a parking permit; and to prevent the program from being abused;

(7) The Department of Justice when seeking legal advice, or when (a) the Department of the Treasury (agency) or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(8) The Office of Personnel Management, the Merit Systems Protection Board, the Equal Employment Opportunity Commission, and the Federal Labor Relations Authority or other third parties when mandated or authorized by statute; and

(9) A contractor for the purpose of compiling, organizing, analyzing, programming, or otherwise refining records to accomplish an agency function subject to the same limitations applicable to U.S. Department of Treasury officers and employees under the Privacy Act.

Policies and practices for storing, retrieving, accessing, retaining, and disposing of records in the system:

Storage:

Paper records, file folders and/or electronic media.

Retrievability:

By name of individual, badge number or office.

Safeguards:

Access is limited to authorized employees. Files are maintained in locked safes and/or file cabinets. Electronic records are password-protected. During non-work hours, records are stored in locked safes and/or cabinets in locked room.

Retention and disposal:

Active records are retained indefinitely. Inactive records are held for three years and then destroyed.

System manager(s) and address:

The system managers for the Treasury bureaus are:

(1) Departmental Offices:

a. Director, Occupational Safety and Health Office, Room 6204 Annex, 1500 Pennsylvania Ave., NW., Washington, DC 20220.

b. Office of Inspector General: Office of Assistant Inspector for Management Services, Office of Administrative Services, Suite 510, 740 15th St. NW., Washington, DC 20220.

C. TIGTA: Director, Human Resources, 1125 15th Street, NW., Suite 700A, Washington, DC 20005.

(2) TTB: Alcohol and Tobacco Tax and Trade Bureau: 1310 G St., NW., Washington, DC 20220.

(3) BEP: Chief, Office of Administrative Services, Bureau of Engraving and Printing, 14th and C Streets, SW., Washington, DC 20228.

(4) OCC: Building Manager, Building Services, Office of the Comptroller of the Currency, 250 E Street, SW., Washington, DC 20219-0001.

(5) FMS: Director, Administrative Programs Division, Financial Management Service, 3700 East West Hwy., Room 144, Hyattsville, MD 20782.

(6) IRS: Official prescribing policies and practices—Chief, National Office, Protective Program Staff, Director, Personnel Policy Division, 2221 S. Clark Street-CP6, Arlington, VA 20224. Officials maintaining the system—Supervisor of local offices where the records reside. (See IRS Appendix A for addresses.)

(7) Mint: Office of Management Services (OMS), 801 9th St. NW., Washington, DC 20220.

(8) BPD: Director, Division of Administrative Services, Avery Street Building, 320 Avery Street, Parkersburg, WV.

(9) OTS: Director, Planning, Budget and Finance, Office of Thrift Supervision, Department of the Treasury, 1700 G Street, NW., Washington, DC 20552.

(10) FinCEN: Director, P. O. Box 39, Vienna, VA 22183-0039.

Notification procedure:

Individuals seeking notification and access to any record contained in the system of records, or seeking to contest its content, may inquire in accordance with instructions pertaining to individual Treasury components appearing at 31 CFR part 1, subpart C, appendices A-M.

Record Access p­rocedures:

See “Notification procedure” above.

Contesting Record procedures:

See “Notification procedure” above.

Record source categories:

The source of the data are employees who have applied for the transportation incentive, the incentive program managers and other appropriate agency officials, or other Federal agencies.

Exemptions claimed for the system:

None.

TREASURY .006

System name:

Parking and Carpool Program Records—Treasury.

System location:

Department of the Treasury, 1500 Pennsylvania Avenue, NW., Washington, DC 20220. The locations at which the system is maintained by Treasury bureaus and their associated field offices are:

(1) a. Departmental Offices (DO): 1500 Pennsylvania Ave., NW., Washington, DC 20220.

b. The Office of Inspector General (OIG): 740 15th Street, NW., Washington, DC 20220.

c. Treasury Inspector General for Tax Administration (TIGTA): 1125 15th Street, NW., Suite 700A, Washington, DC 20005.

(2) Alcohol and Tobacco Tax and Trade Bureau (TTB): 1310 G St., NW., Washington, DC 20220.

(3) Office of the Comptroller of the Currency (OCC): 250 E Street, SW., Washington, DC 20219-0001.

(4) Bureau of Engraving and Printing (BEP): 14th & C Streets, SW., Washington, DC 20228.

(5) Financial Management Service (FMS): 401 14th Street, SW., Washington, DC 20227.

(6) Internal Revenue Service (IRS): 1111 Constitution Avenue, NW., Washington, DC 20224.

(7) United States Mint (MINT): 801 9th Street, NW., Washington, DC 20220.

(8) Bureau of the Public Debt (BPD): 799 E Street, NW., Washington, DC 20239.

(9) Office of Thrift Supervision (OTS): 1700 G Street, NW., Washington, DC 20552.

Categories of individuals covered by the system:

Current employees of the Department and individuals from other Government agencies or private sector organizations who may use, or apply to use, parking facilities or spaces controlled by the Department. Individuals utilizing handicapped or temporary guest parking controlled by the Department.

Categories of records in the system:

Records may include the name, position title, manager's name, organization, vehicle identification, arrival and departure time, home addresses, office telephone numbers, social security numbers, badge number, and service computation date or length of service with a component of an individual or principal carpool applicant. Contains name, place of employment, duty telephone, vehicle license number and service computation date of applicants, individuals or carpool members. For parking spaces, permit number, priority group (handicapped, job requirements/executive officials (SES) or carpool/vanpool). Medical information may also be included when necessary to determine disability of applicant when applying for handicapped parking spaces.

Authority for maintenance of the system:

5 U.S.C. 301; 44 U.S.C. 3101; Treasury Department Order No. 165, revised as amended. Federal Property and Administrative Services Act of 1949, as amended.

Purpose(s):

The records are used to administer parking, carpool and vanpool programs within the Department. The system enables the Department to allocate and check parking spaces assigned to government or privately-owned vehicles operated by visitors, handicapped personnel, key personnel, employees eligible to participate in a parking program and carpools or vanpools. The Department is also able to compare these records with other Federal agencies to ensure parking privileges or other employee transportation benefits are not abused.

Routine uses of records maintained in the system, including categories of users and the purposes of such uses:

These records may be used to disclose information to:

(1) Appropriate Federal, State, local, or foreign agencies, or other public authority responsible for investigating or prosecuting the violations of or for enforcing or implementing a statute, rule, regulation, order, or license, where the disclosing agency becomes aware of an indication of a violation or potential violation of civil or criminal law or regulation;

(2) A Congressional office in response to an inquiry made at the request of the individual to whom the record pertains;

(3) A physician for making a determination on a person's eligibility for handicapped parking;

(4) A contractor who needs to have access to this system of records to perform an assigned activity;

(5) Parking coordinators of Government agencies and private sector organizations for verification of employment and participation of pool members;

(6) Unions recognized as exclusive bargaining representatives under the Civil Service Reform Act of 1978, 5 U.S.C. 7111 and 7114;

(7) Department of Justice when seeking legal advice, or when (a) the Department of the Treasury (agency) or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(8) Third parties when mandated or authorized by statute or when necessary to obtain information that is relevant to an inquiry concerned with the possible abuse of parking privileges or other employee transportation benefits;

(9) A court, magistrate, or administrative tribunal in the course of presenting evidence, including disclosures to opposing counsel or witnesses in the course of civil discovery, litigation, or settlement negotiations or in connection with criminal law proceedings or in response to a subpoena where relevant or potentially relevant to a proceeding, and

(10) Officials of the Merit Systems Protection Board, the Federal Labor Relations Authority, the Equal Employment Opportunity Commission or the Office of Personnel Management when requested in the performance of their authorized duties.

Policies and practices for storing, retrieving, accessing, retaining, and disposing of records in the system:

Storage:

Hard copy and/or electronic media.

Retrievability:

Name, address, social security number, badge number, permit number, vehicle tag number, and agency name or organization code on either the applicant or pool members as needed by a bureau. Records are filed alphabetically by location.

Safeguards:

Paper records are maintained in locked file cabinets. Access is limited to personnel whose official duties require such access and who have a need to know the information in a record for a job-related purpose. Access to computerized records is limited, through use of a password, to those whose official duties require access. Protection and control of sensitive but unclassified (SBU) records are in accordance with TD P 71-10, Department of the Treasury Security Manual, and any supplemental guidance issued by individual bureaus. The IRS access controls will not be less than those provided by the Automated Information System Security Handbook, IRM 2(10)00, and the Manager's Security Handbook, IRM 1(16)12.

Retention and disposal:

Generally, record maintenance and disposal is in accordance with NARA General Retention Schedule 11, and any supplemental guidance issued by individual components. Disposal of manual records is by shredding or burning; electronic data is erased. Destroyed upon change in, or revocation of, parking assignment.

For the IRS, records are maintained in accordance with Records Control Schedule 301—General Records Schedule 11, Space and Maintenance Records, Item 4(a), IRM 1(15)59.31.

System manager(s) and address:

The system managers for the Treasury components are:

(1) DO:

a. Director, Occupational Safety and Health Office, Room 6204 Annex, 1500 Pennsylvania Ave., NW., Washington, DC 20220.

b. OIG: Director, Administrative Services Division, Office of Management Services, Room 510, 740 15th Street, NW., Washington, DC 20220.

c. TIGTA: Director, Human Resources, 1125 15th Street, NW., Suite 700A, Washington, DC 20005.

(2) TTB: Alcohol and Tobacco Tax and Trade Bureau: 1310 G. St., NW., Washington, DC 20220.

(3) OCC: Building Manager, Building Services, Office of the Comptroller of the Currency, 250 E Street, SW., Washington, DC 20219;

(4) BEP: Chief, Office of Administrative Services, Bureau of Engraving and Printing, 14th and C Streets, SW., Washington, DC 20228.

(5) FMS: Director, Administrative Programs Division, 3700 East West Highway, Hyattsville, MD 20782.

(6) IRS: Chief, Security and Safety Branch; Regional Commissioners, District Directors, Internal Revenue Service Center Directors, and Computing Center Directors. (See IRS Appendix A for addresses.)

(7) MINT: Associate Director for Protection, 801 9th St. NW., Washington, DC 20220.

(8) BPD: Director, Washington Support Services, Bureau of the Public Debt, 799 E Street, NW., Washington, DC 0239.

(9) OTS: Director, Procurement and Administrative Services, Office of Thrift Supervision, 1700 G Street, NW., Washington, DC 20552.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

Parking permit applicants, members of carpools or vanpools, other Federal agencies, medical doctor if disability determination is requested.

Exemptions claimed for the system:

None.

TREASURY .007

System name:

Personnel Security System—Treasury.

System location:

Department of the Treasury, 1500 Pennsylvania Avenue, NW., Room 3180 Annex, Washington, DC 20220. Other locations at which the system is maintained by Treasury bureaus and their associated offices are:

(1) Departmental Offices (DO):

a. 1500 Pennsylvania Ave., NW., Washington, DC 20220.

c. The Office of Inspector General (OIG): 740 15th Street, NW., Washington, DC 20220.

d. Treasury Inspector General for Tax Administration (TIGTA): 1125 15th Street, NW., Washington, DC 20005.

(2) Alcohol and Tobacco Tax and Trade Bureau (TTB): 1310 G St., NW., Washington, DC 20220.

(3) Office of the Comptroller of the Currency (OCC): 250 E Street, SW., Washington, DC 20219-0001.

(4) Bureau of Engraving and Printing (BEP): 14th & C Streets, SW., Washington, DC 20228.

(5) Financial Management Service (FMS): 401 14th Street, SW., Washington, DC 20227.

(6) United States Mint (MINT): 801 9th Street, NW., Washington, DC 20220.

(7) Bureau of the Public Debt (BPD): Avery Street Building, 320 Avery Street, Parkersburg, WV.

(8) Office of Thrift Supervision (OTS): 1700 G Street, NW., Washington, DC 20552.

(9) Financial Crimes Enforcement Network (FinCEN), Vienna, VA 22183-0039.

Categories of individuals covered by the system:

(1) Current and former government employees, applicants and contractor employees occupying or applying for sensitive positions in the Department, (2) current and former senior officials of the Department and Treasury bureaus, and those within the Department who are involved in personnel security matters, and (3) current employees, applicants and contractor employees who are appealing a denial or a revocation of a security clearance.

Categories of records in the system:

(1) Background investigations, (2) FBI and other agency name checks, (3) investigative information relating to personnel investigations conducted by the Department of the Treasury and other Federal agencies and departments on a pre-placement and post-placement basis to make suitability and employability determinations and for granting security clearances, (4) card records comprised of Notice of Personnel Security Investigation (TD F 67-32.2) or similar previously used card indexes, and (5) an automated data system reflecting identification data on applicants, incumbents and former employees, disclosure and authorization forms, and record of investigations, level and date of security clearance, if any, as well as status of investigations, and (6) records pertaining to the appeal of a denial or a revocation of a security clearance.

Authority for maintenance of the system:

Executive Order 10450, sections 2 and 3, Executive Order 12958, and Executive Order 12968.

Purpose(s):

This system is used to maintain records that assure the Department is upholding the highest standards of integrity, loyalty, conduct, and security among its personnel and contract employees.

Routine uses of records maintained in the system, including categories of users and the purposes of such uses:

These records may be used to disclose information to:

(1) Appropriate Federal, state, local and foreign agencies for the purpose of enforcing and investigating administrative, civil or criminal law relating to the hiring or retention of an employee; issuance of a security clearance, license, contract, grant or other benefit;

(2) A court, magistrate, or administrative tribunal in the course of presenting evidence, including disclosures to opposing counsel or witnesses in the course of or in preparation for civil discovery, litigation, or settlement negotiations, in response to a subpoena where relevant or potentially relevant to a proceeding, or in connection with criminal law proceedings;

(3) The Department of Justice, or in a proceeding before a court, adjudicative body, or other administrative body before which the Department of the Treasury is authorized to appear, when: (a) The Department of the Treasury, or any component thereof; or (b) any employee of the Department of the Treasury in his or her official capacity; or (c) any employee of the Department of the Treasury in his or her individual capacity where the Department of Justice or the Department of the Treasury has agreed to represent the employee; or (d) the United States, when the Department of the Treasury determines that litigation is likely to affect the Department of the Treasury or any of its components; is a party to litigation or has an interest in such litigation, and the use of such records by the Department of Justice or the Department of the Treasury is deemed by the Department of the Treasury to be relevant and necessary to the litigation; provided, however, that the disclosure is compatible with the purpose for which records were collected;

(4) A congressional office in response to an inquiry made at the request of the individual to whom the record pertains;

(5) Third parties during the course of an investigation to the extent necessary to obtain information pertinent to the investigation;

(6) The Office of Personnel Management, Merit Systems Protection Board, Equal Employment Opportunity Commission, Federal Labor Relations Authority, and the Office of Special Counsel for the purpose of properly administering Federal personnel systems or other agencies' systems in accordance with applicable laws, Executive Orders, and regulations; and

(7) Unions recognized as exclusive bargaining representatives under 5 U.S.C. chapter 71, and other parties responsible for the administration of the Federal labor-management program if needed in the performance of their authorized duties.

Policies and practices for storing, retrieving, accessing, retaining, and disposing of records in the system:

Storage:

File folders, index cards, and magnetic media.

Retrievability:

Records are retrieved by name.

Safeguards:

Paper records are stored in locked metal containers and in locked rooms. Electronic records are password protected. Access is limited to officials who have a need to know in the performance of their official duties and whose background investigations have been favorably adjudicated.

Retention and disposal:

The records on government employees and contractor employees are retained for the duration of their employment at the Treasury Department. The records on applicants not selected and separated employees are destroyed or sent to the Federal Records Center in accordance with General Records Schedule 18.

System manager(s) and address:

Department of the Treasury: Official prescribing policies and practices: Director of Security, 1500 Pennsylvania Avenue, NW., Room 3180 Annex, Washington, DC 20220.

The system managers for the Treasury components are:

(1) DO:

a. Director of Security, 1500 Pennsylvania Avenue, NW., Washington, DC 20220.

b. OIG: Personnel Officer, 740 15th St., NW., Suite 510, Washington, DC 20220.

c. TIGTA: Security Officer, 1125 15th Street, NW., Suite 700A, Washington, DC 20005.

(2) TTB: Alcohol and Tobacco Tax and Trade Bureau: 1310 G St., NW., Washington, DC 20220.

(3) BPD: Director, Division of Administrative Services, Avery Street Building, 320 Avery Street, Parkersburg, WV.

(4) OCC: Director, Administrative Services Division, 250 E Street, SW., Washington, DC 20219.

(5) BEP: Chief, Office of Security, 14th & C Streets, NW., Room 113M, Washington, DC 20228.

(6) FMS: Director, Administrative Programs Division, 3700 East West Highway, Hyattsville, MD 20782.

(7) Mint: Associate Director for Protection, 801 9th Street, NW., Washington, DC 20220.

(8) OTS: Director, Procurement and Administrative Services, 1700 G Street, NW., Washington, DC 20552.

(9) FinCEN: Director, P.O. Box 39, Vienna, VA 22183-0039.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

The information provided or verified by applicants or employees whose files are on record as authorized by those concerned, information obtained from current and former employers, co-workers, neighbors, acquaintances, educational records and instructors, and police and credit record checks.

Exemptions claimed for the system:

This system is exempt from 5 U.S.C. 552a(c)(3), (d)(1), (2), (3), and (4), (e)(1), (e)(4)(G), (H), and (I), and (f) of the Privacy Act pursuant to 5 U.S.C. 552a(k)(5). (See 31 CFR 1.36.)

TREASURY .008

System Name:

Treasury Emergency Management System.

System Location:

Department of the Treasury, Annex Building, Room 3180, 1500 Pennsylvania Avenue, NW., Washington, DC 20220. Other locations at which the system is maintained by Treasury components and their associated field offices are:

(1) Departmental Offices (DO):

a. 1500 Pennsylvania Ave., NW., Washington, DC 20220.

b. The Office of Inspector General (OIG): 740 15th Street, NW., Washington, DC 20220.

c. Treasury Inspector General for Tax Administration (TIGTA): 1125 15th Street, NW., Washington, DC 20005.

(2) Alcohol and Tobacco Tax and Trade Bureau (TTB): 1310 G. St., NW., Washington, DC 20220.

(3) Office of the Comptroller of the Currency (OCC): 250 E Street, SW., Washington, DC 20219-0001.

(4) Bureau of Engraving and Printing (BEP): 14th & C Streets, SW., Washington, DC 20228.

(5) Financial Management Service (FMS): 401 14th Street, SW., Washington, DC 20227.

(6) Internal Revenue Service (IRS): 1111 Constitution Avenue, NW., Washington, DC 20224.

(7) United States Mint (MINT): 801 9th Street, NW., Washington, DC 20220.

(8) Bureau of the Public Debt (BPD): Avery Street Building, 320 Avery Street, Parkersburg, WV.

(9) Office of Thrift Supervision (OTS): 1700 G Street, NW., Washington, DC 20552.

(10) Financial Crimes Enforcement Network (FinCEN), Vienna, VA 22183-0039.

Categories of individuals covered by the system:

Current Treasury employees, contractors, and Treasury Emergency Executive Reservists.

Categories of records in the system:

Treasury employees, contractors, or Treasury Emergency Executive Reservists identification number, social security number, first name and middle initial, last name, job title, government and home addresses (city, state, zip code, zip code extension), home telephone number, work telephone number, alternate telephone number (e.g., pager, cellular phone), work shift, email addresses, office code, office name, gender and other employee attributes, date of birth, place of birth, and related personnel security clearance information, emergency team assignment and emergency team location.

Authority for maintenance of the system:

5 U.S.C. 301, Executive Order 12656, section 201 and part 15, Executive Order 12472, Presidential Decision Directive 67.

Purposes(s):

The purpose of this system of records is to support the development of and maintain a continuity of operations plans (COOP) for the Department and its component bureaus. COOP activities involve ensuring the continuity of minimum essential Department of the Treasury functions through plans and procedures governing succession to office and the emergency delegation of authority (where permissible). Vital records and critical information pertaining to all current employees, contractors, and Treasury Emergency Executive Reservists will be gathered and stored in an emergency employee locator system. This data will be used for alert and notification purposes, determining team and task assignments, developing and maintaining an emergency contact system for general emergency preparedness programs and specific situations.

Routine uses of records maintained in the system, including categories of users and the purposes of such uses:

These records may be used to:

(1) Disclose pertinent information to appropriate Federal, State, local, or foreign agencies, or other public authority responsible for investigating or prosecuting the violations of, or for enforcing or implementing a statute, rule, regulation, order, or license, where the disclosing agency becomes aware of an indication of a violation or potential violation of civil or criminal law or regulation;

(2) Disclose pertinent information to the Department of Justice for the purpose of litigating an action or seeking legal advice;

(3) Disclose information to the Federal Emergency Management Agency (FEMA) or other agency with national security and emergency preparedness responsibilities in order to carry out continuity of government activities;

(4) Disclose information to a Federal, State, local, or other public authority maintaining civil, criminal or other relevant enforcement information or other pertinent information, which has requested information relevant to or necessary to the requesting agency's, bureau's, or authority's hiring or retention of an individual, or issuance of a security clearance, license, contract, grant, or other benefit;

(5) Disclose information in a proceeding before a court, adjudicative body, or other administrative body before which the Department of the Treasury (agency) is authorized to appear when: (a) The agency, or (b) any employee of the agency in his or her official capacity, or (c) any employee of the agency in his or her individual capacity where the Department of Justice or the agency has agreed to represent the employee; or (d) the United States, when the agency determines that litigation is likely to affect the agency, is a party to litigation or has an interest in such litigation, and the use of such records by the agency is deemed to be relevant and necessary to the litigation or administrative proceeding and not otherwise privileged;

(6) Disclose information to a Congressional office in response to an inquiry made at the request of the individual to whom the record pertains;

(7) Disclose information to a contractor for the purpose of processing administrative records and/or compiling, organizing, analyzing, programming, or otherwise refining records subject to the same limitations applicable to U.S. Department of the Treasury officers and employees under the Privacy Act;

(8) Disclose information to a court, magistrate, or administrative tribunal in the course of presenting evidence, including disclosures to opposing counsel or witnesses in the course of civil discovery, litigation, or settlement negotiations or in connection with criminal law proceedings or in response to a subpoena where relevant or potentially relevant to a proceeding;

(9) Disclose information to unions recognized as exclusive bargaining representatives under the Civil Service Reform Act of 1978, 5 U.S.C. 7111 and 7114, the Merit Systems Protection Board, arbitrators, the Federal Labor Relations Authority, and other parties responsible for the administration of the Federal labor management program for the purpose of processing any corrective actions or grievances, or conducting administrative hearings or appeals, or if needed in the performance of other authorized duties;

(10) Disclose information to a telecommunications company providing telecommunications support to permit servicing the account;

(11) Disclose information to representatives of the General Services Administration (GSA) or the National Archives and Records Administration (NARA) who are conducting records management inspections under authority of 44 U.S.C. 2904 and 2906.

Policies and practices for storing, retrieving, accessing, retaining, and disposing of records in the system:

Storage:

Maintained in hardcopy and electronic media.

Retrievability:

Records can be retrieved by name, or by the categories listed above under “Categories of records in the system.”

Safeguards:

Protection and control of any sensitive but unclassified (SBU) records are in accordance with TD P 71-10, Department of the Treasury Security Manual. The files and magnetic media are secured in locked rooms. Access to the records is available only to employees responsible for the management of the system and/or employees of program offices who have a need for such information and have been subject to a background check and/or have a security clearance.

Retention and disposal:

Records are retained and disposed of in accordance with the appropriate National Archives and Records Administration General Records Schedules.

System manager(s) and address:

Department of the Treasury: Official prescribing policies and practices: Director, Office of Security, Department of the Treasury, Washington, DC 20220.

The system managers for the Treasury components are:

(1) a. DO: Director of Security, 1500 Pennsylvania Avenue, NW., Washington, DC 20220.

b. OIG: Personnel Officer, 740 15th St., NW., Suite 510, Washington, DC 20220.

c. TIGTA: Special Agent in Charge (SIID), 1125 15th Street, NW., Suite 700A, Washington, DC 20005.

(2) TTB: Alcohol and Tobacco Tax and Trade Bureau: 1310 G. St., NW., Washington, DC 20220.

(3) OCC: Director, Administrative Services Division, 250 E Street, SW., Washington, DC 20219.

(4) BEP: Director of Security, 14th & C Streets, NW., Room 113M, Washington, DC 20228.

(5) FMS: Director, Administrative Programs Division, 3700 East West Highway, Hyattsville, MD 20782.

(6) IRS: Director, Security Standards and Evaluation, 5000 Ellin Road, Lanham, MD 20706.

(7) BPD: Executive Director, Administrative Resources Center, Avery Street Building, 320 Avery Street, Parkersburg, WV.

(8) Mint: Associate Director for Protection, 801 9th Street, NW., Washington, DC 20220.

(9) OTS: Director, Procurement and Administrative Services, 1700 G Street, NW., Washington, DC 20552.

(10) FinCEN: Director, P. O. Box 39, Vienna, VA 22183-0039.

Notification procedure:

Individuals seeking notification and access to any record contained in the system of records, or seeking to contest its content, may inquire in accordance with instructions pertaining to individual Treasury components appearing at 31 CFR part 1, subpart C, appendices A-M.

Record Access procedures:

See “Notification procedures” above.

Contesting Record procedures:

See “Notification procedures” above.

Record source categories:

Information is obtained from current Treasury employees, contractors, Treasury Emergency Executive Reservists, and Management.

Exemptions claimed for the system:

None.

TREASURY .009

System name:

Treasury Financial Management Systems—Treasury.

System location:

Department of the Treasury, 1500 Pennsylvania Ave., NW., Washington, DC 20220. The locations at which the system is maintained by Treasury components and their associated field offices are:

(1) Departmental Offices (DO):

a. Financial Management Division, 1500 Pennsylvania Avenue, NW., Washington, DC 20220.

b. The Office of Inspector General (OIG): 740 15th Street, NW., Washington, DC 20220.

c. Treasury Inspector General for Tax Administration (TIGTA): 1125 15th Street, NW., Washington, DC 20005.

d. Community Development Financial Institutions Fund (CDFI): 601 13th Street, NW., Suite 200 South, Washington, DC 20005.

e. Federal Financing Bank (FFB): 1500 Pennsylvania Avenue, NW., South Court One, Washington, DC 20220.

g. Office of International Affairs (IA): 1500 Pennsylvania Avenue, NW., Room 5441D, Washington, DC 20220.

h. Treasury Forfeiture Fund: 740 15th Street, NW., Suite 700, Washington, DC 20220.

i. Treasury Franchise Fund: 1500 Pennsylvania Ave. NW., Attn: Met Square Rm. 6253, Washington, DC 20220.

(2) Alcohol and Tobacco Tax and Trade Bureau (TTB): 1310 G. St., NW., Washington, DC 20220.

(3) Office of the Comptroller of the Currency (OCC): 250 E Street, NW., Washington, DC 20219-0001.

(4) Bureau of Engraving and Printing (BEP): 14th & C Streets, SW., Washington, DC 20228.

(5) Financial Management Service (FMS): 401 14th Street, SW., Washington, DC 20227.

(6) Internal Revenue Service (IRS): 1111 Constitution Avenue, NW., Washington, DC 20224.

(7) United States Mint (MINT): 801 9th Street, NW., Washington, DC 20220.

(8) Bureau of the Public Debt (BPD): Avery Street Building, 320 Avery Street, Parkersburg, WV.

(9) Office of Thrift Supervision (OTS): 1700 G Street, NW., Washington, DC 20552.

(10) Financial Crimes Enforcement Network (FinCEN), Vienna, VA 22183-0039.

Categories of individuals covered by the system:

(1) Current and former Treasury employees, non-Treasury personnel on detail to the Department, current and former vendors, all debtors including employees or former employees; (2) persons paying for goods or services, returning overpayment or otherwise delivering cash; (3) individuals, private institutions and business entities who are currently doing business with, or who have previously conducted business with the Department of the Treasury to provide various goods and services; (4) individuals who are now or were previously involved in tort claims with Treasury; (5) individuals who are now or have previously been involved in payments (accounts receivable/revenue) with Treasury; and (6) individuals who have been recipients of awards. Only records reflecting personal information are subject to the Privacy Act. The system also contains records concerning corporations, other business entities, and organizations whose records are not subject to the Privacy Act.

Categories of records in the system:

The financial systems used by the Treasury components to collect, maintain and disseminate information include the following types of records: Routine billing, payment, property accountability, and travel information used in accounting and financial processing; administrative claims by employees for lost or damaged property; administrative accounting documents, such as relocation documents, purchase orders, vendor invoices, checks, reimbursement documents, transaction amounts, goods and services descriptions, returned overpayments, or otherwise delivering cash, reasons for payment and debt, travel-related documents, training records, uniform allowances, payroll information, student intern documents, etc., which reflect amount owed by or to an individual for payments to or receipt from business firms, private citizens and or institutions. Typically, these documents include the individual's name, social security number, address, and taxpayer identification number. Records in the system also include employment data, payroll data, position and pay data.

Authority for maintenance of the system:

31 U.S.C. 3512, 31 U.S.C. 3711, 31 U.S.C. 3721, 5 U.S.C. 5701 et seq., 5 U.S.C. 4111(b), Pub. L. 97-365, 26 U.S.C. 6103(m)(2), 5 U.S.C. 5514, 31 U.S.C. 3716, 31 U.S.C. 321, 5 U.S.C. 301, 5 U.S.C. 4101 et seq., 41 CFR parts 301-304, EO 11348, and Treasury Order 140-01.

Purpose(s):

The Treasury Integrated Financial Management and Revenue System is to account for and control appropriated resources; maintain accounting and financial information associated with the normal operations of government organizations such as billing and follow-up, for paying creditors, to account for goods and services provided and received, to account for monies paid and received, process travel authorizations and claims, process training claims, and process employee claims for lost or damaged property. The records management and statistical analysis subsystems provide a data source for the production of reports, statistical surveys, documentation and studies required for integrated internal management reporting of costs associated with the Department's operation.

Routine uses of records maintained in the system, including categories of users and the purposes of such uses:

These records may be used to disclose information: (1) To appropriate Federal, State, local, or foreign agencies, or other public authority responsible for investigating or prosecuting the violations of or for enforcing or implementing a statute, rule, regulation, order, or license, where the disclosing agency becomes aware of an indication of a violation or potential violation of civil or criminal law or regulation;

(2) To the Department of Justice when seeking legal advice, or when (a) the agency or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation and the use of such records by the Department of Justice is therefore deemed by the agency to be for a purpose that is compatible with the purpose for which the agency collected the records;

(3) To a Federal, State, local, or other public authority maintaining civil, criminal or other relevant enforcement information or other pertinent information, which has requested information relevant to or necessary to the requesting agency's, bureau's, or authority's hiring or retention of an individual, or issuance of a security clearance, license, contract, grant, or other benefit;

(4) In a proceeding before a court, adjudicative body, or other administrative body before which the agency is authorized to appear when: (a) The agency, or (b) or any component thereof, or (c) any employee of the agency in his or her official capacity, or (d) any employee of the agency in his or her individual capacity where the Department of Justice or the agency has agreed to represent the employee; or (e) the United States, when the agency determines that litigation is likely to affect the agency, is a party to litigation or has an interest in such litigation, and the use of such records by the agency is deemed to be relevant and necessary to the litigation or administrative proceeding and not otherwise privileged;

(5) To a Congressional office in response to an inquiry made at the request of the individual to whom the record pertains;

(6) To the news media in accordance with guidelines contained in 28 CFR 50.2 which pertain to an agency's functions relating to civil and criminal proceedings;

(7) To third parties during the course of an investigation to the extent necessary to obtain information pertinent to the investigation;

(8) To a public or professional licensing organization when such information indicates, either by itself or in combination with other information, a violation or potential violation of professional standards, or reflects on the moral, educational, or professional qualifications of an individual who is licensed or who is seeking to become licensed;

(9) To a contractor for the purpose of compiling, organizing, analyzing, programming, processing, or otherwise refining records subject to the same limitations applicable to U.S. Department of the Treasury officers and employees under the Privacy Act;

(10) To a court, magistrate, or administrative tribunal in the course of presenting evidence, including disclosures to opposing counsel or witnesses in the course of civil discovery, litigation, or settlement negotiations or in connection with criminal law proceedings or in response to a subpoena;

(11) Through a computer matching program, information on individuals owing debts to the Department of the Treasury, or any of its components, to other Federal agencies for the purpose of determining whether the debtor is a Federal employee or retiree receiving payments which may be used to collect the debt through administrative or salary offset;

(12) To other Federal agencies to effect salary or administrative offset for the purpose of collecting debts, except that addresses obtained from the IRS shall not be disclosed to other agencies;

(13) To disclose information to a consumer reporting agency, including mailing addresses obtained from the Internal Revenue Service, to obtain credit reports;

(14) To a debt collection agency, including mailing addresses obtained from the Internal Revenue Service, for debt collection services;

(15) To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions, or grievances, or conducting administrative hearings or appeals, or if needed in the performance of other authorized duties;

(16) To a public or professional auditing organization for the purpose of conducting financial audit and/or compliance audits;

(17) To a student participating in a Treasury student volunteer program, where such disclosure is necessary to support program functions of Treasury, and

(18) To insurance companies or other appropriate third parties, including common carriers and warehousemen, in the course of settling an employee's claim for lost or damaged property filed with the Department.

Disclosure to consumer reporting agencies:

Disclosures made pursuant to 5 U.S.C. 552a(b)(12): Debt information concerning a government claim against an individual may be furnished in accordance with 5 U.S.C. 552a(b)(12) and section 3 of the Debt Collection Act of 1982 (Pub. L. 97-365) to consumer reporting agencies to encourage repayment of an overdue debt.

Policies and practices for storing, retrieving, accessing, retaining, and disposing of records in the system:

Storage:

Paper, microform and electronic media.

Retrievability:

Name, social security number, vendor ID number, and document number (travel form, training form, purchase order, check, invoice, etc.).

Safeguards:

Protection and control of sensitive but unclassified (SBU) records in this system is in accordance with TD P 71-10, Department of the Treasury Security Manual, and any supplemental guidance issued by individual components.

Retention and disposal:

Record maintenance and disposal is in accordance with National Archives and Records Administration retention schedules, and any supplemental guidance issued by individual components.

System manager(s) and address:

(1) DO: a. Director, Financial Management Division, 1500 Pennsylvania Avenue, NW., Attn: 1310 G Street, 2nd floor, Washington, DC 20220.

b. OIG: Assistant Inspector General for Management Services, 740 15th St., NW., Suite 510, Washington, DC 20220.

c. TIGTA: Chief Financial Officer, 1125 15th Street, NW., Suite 700A, Washington, DC 20005.

d. CDFI Fund: Deputy Director for Management/CFO, 601 13th Street, NW., Suite 200 South, Washington, DC 20005.

e. FFB: Chief Financial Officer, 1500 Pennsylvania Avenue, NW., South Court One, Washington, DC 20220.

g. IA: Financial Manager, 1500 Pennsylvania Avenue, NW., Room 5441D, Washington, DC 20220.

h. Treasury Forfeiture Fund: Assistant Director for Financial Management/CFO, 740 15th Street, NW., Suite 700, Washington, DC 20220.

i. Treasury Franchise Fund: Managing Director, 1500 Pennsylvania Ave., NW., Attn: Met Square Rm. 6253, Washington, DC 20220.

(2) TTB: Alcohol and Tobacco Tax and Trade Bureau: 1310 G. St., NW., Washington, DC 20220.

(3) IRS: Chief Financial Officer, Internal Revenue Service, 1111 Constitution Avenue, NW., Room 3013, Washington, DC 20224.

(4) BPD: Director, Division of Financial Management, Bureau of Public Debt, Avery Street Building, 320 Avery Street, Parkersburg, WV.

(5) OCC: Chief Financial Officer, Comptroller of the Currency, 250 E Street, SW., Washington, DC 20219.

(6) BEP: Chief Financial Officer, Bureau of Engraving and Printing, 14th and C Streets, NW., Room 113M, Washington, DC 20228.

(7) FMS: Chief Financial Officer, Financial Management Service, 3700 East West Highway, Room 106A, Hyattsville, MD 20782.

(8) Mint: Chief Financial Officer, United States Mint, 801 9th Street, NW., 7th Floor, Washington, DC 20220.

(9) OTS: Controller, Office of Thrift Supervision, 1700 G Street, NW., Third Floor, Washington, DC 20552.

(10) FinCEN: Director, P. O. Box 39, Vienna, VA 22183-0039.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

Individuals, private firms, other government agencies, contractors, documents submitted to or received from a budget, accounting, travel, training or other office maintaining the records in the performance of their duties.

Exemptions claimed for the system:

None.

TREASURY 010

System name:

Telephone Call Detail Records-Treasury.

System location:

Department of the Treasury, 1500 Pennsylvania Ave., NW., Washington, DC 20220. The locations at which the system is maintained by Treasury components and their associated field offices are:

(1) Departmental Offices (DO):

a. 1500 Pennsylvania Ave., NW., Washington, DC 20220.

b. Treasury Inspector General for Tax Administration TIGTA): 1125 15th St., NW., Washington, DC 20005.

(2) Alcohol and Tobacco Tax and Trade Bureau (TTB): 1310 G. St., NW., Washington, DC 20220.

(3) Office of the Comptroller of the Currency (OCC): 250 E Street, NW., Washington, DC 20219-0001.

(4) Bureau of Engraving and Printing (BEP): 14th & C Streets, SW., Washington, DC 20228.

(5) Financial Crimes Enforcement Network (FinCEN) Vienna, Virginia 22182.

(6) Financial Management Service (FMS): 401 14th Street, SW., Washington, DC 20227.

(7) Internal Revenue Service (IRS): 1111 Constitution Avenue, NW., Washington, DC 20224.

(8) United States Mint (MINT): 801 9th Street, NW., Washington, DC 20220.

(9) Bureau of the Public Debt (BPD): 200 Third Street, Parkersburg, WV 26101.

(10) Office of Thrift Supervision (OTS): 1700 G Street, NW., Washington, DC 20552.

Categories of individuals covered by the system:

Individuals (generally agency employees and contractor personnel) who make local and/or long distance calls, individuals who received telephone calls placed from or charged to agency telephones.

Categories of records in the system:

Records relating to the use of Department telephones to place local and/or long distance calls, whether through the Federal Telecommunications System (FTS), commercial systems, or similar systems; including voice, data, and videoconference usage; telephone calling card numbers assigned to employees; records of any charges billed to Department telephones; records relating to location of Department telephones; and the results of administrative inquiries to determine responsibility for the placement of specific local or long distance calls. Telephone calls made to any Treasury Office of Inspector General Hotline numbers are excluded from the records maintained in this system pursuant to the provisions of 5 U.S.C., Appendix 3, Section 7(b) (Inspector General Act of 1978).

Authority for maintenance of the system:

12 U.S.C. 1, 12 U.S.C. 93a, 12 U.S.C. 481, 5 U.S.C. 301 and 41 CFR 201-21.6.

Purpose(s):

The Department, in accordance with 41 CFR 201-21.6, Use of Government Telephone Systems, established the Telephone Call Detail program to enable it to analyze call detail information for verifying call usage, to determine responsibility for placement of specific long distance calls, and for detecting possible abuse of the government-provided long distance network.

Routine uses of records maintained in the system, including categories of users and the purposes of such uses:

These records and information from these records may be disclosed: (1) To representatives of the General Services Administration or the National Archives and Records Administration who are conducting records management inspections under authority of 44 U.S.C. 2904 and 2906;

(2) To employees or contractors of the agency to determine individual responsibility for telephone calls;

(3) To appropriate Federal, State, local, or foreign agencies responsible for investigating or prosecuting the violations of, or for enforcing or implementing a statute, rule, regulation, order, or license, or where the disclosing agency becomes aware of an indication of a violation or potential violation of civil or criminal law or regulation;

(4) To a court, magistrate, or administrative tribunal in the course of presenting evidence, including disclosures to opposing counsel or witnesses in the course of civil discovery, litigation, or settlement negotiations, in response to a subpoena, or in connection with criminal law proceedings where relevant and necessary;

(5) To a telecommunications company providing telecommunication support to permit servicing the account;

(6) To another Federal agency to effect an interagency salary offset, or an interagency administrative offset, or to a debt collection agency for debt collection services. Mailing addresses acquired from the Internal Revenue Service may be released to debt collection agencies for collection services, but shall not be disclosed to other government agencies;

(7) To the Department of Justice for the purpose of litigating an action or seeking legal advice;

(8) In a proceeding before a court, adjudicative body, or other administrative body, before which the agency is authorized to appear when: (a) The agency, or (b) any employee of the agency in his or her official capacity, or (c) any employee of the agency in his or her individual capacity where the Department of Justice has agreed to represent the employee; or (d) the United States, when the agency determines that litigation is likely to affect the agency, is a party to the litigation or has an interest in such litigation, and the use of such records by the agency is deemed relevant and necessary to the litigation or administrative proceeding and not otherwise privileged;

(9) To a congressional office in response to an inquiry made at the request of the individual to whom the record pertains;

(10) To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions or grievances or conducting administrative hearings or appeals or if needed in the performance of other authorized duties;

(11) To the Defense Manpower Data Center (DMDC), Department of Defense, the U.S. Postal Service, and other Federal agencies through authorized computer matching programs to identify and locate individuals who are delinquent in their repayment of debts owed to the Department, or one of its components, in order to collect a debt through salary or administrative offsets;

(12) In response to a Federal agency's request made in connection with the hiring or retention of an individual, issuance of a security clearance, license, contract, grant, or other benefit by the requesting agency, but only to the extent that the information disclosed is relevant and necessary to the requesting agency's decision on the matter.

Disclosure to consumer reporting agencies:

Disclosures pursuant to 5 U.S.C. 522a(b)(12): Disclosures may be made from this system to “consumer reporting agencies” as defined in the Fair Credit Reporting Act (15 U.S.C. 1681(f)) or the Federal Claims Collections Act of 1966 (31 U.S.C. 3701(a)(3)).

Policies and practices for storing, retrieving, accessing, retaining, and disposing of records in the system:

Storage:

Microform, electronic media, and/or hard copy media.

Retrievability:

Records may be retrieved by: Individual name; component headquarters and field offices; by originating or terminating telephone number; telephone calling card numbers; time of day; identification number, or assigned telephone number.

Safeguards:

Protection and control of any sensitive but unclassified (SBU) records are in accordance with TD P 71-10, Department of the Treasury Security Manual, and any supplemental guidance issued by individual components.

Retention and disposal:

Records are maintained in accordance with National Archives and Records Administration General Records Schedule 3. Hard copy and microform media disposed by shredding or incineration. Electronic media erased electronically.

System manager(s) and address:

Department of the Treasury: Official prescribing policies and practices—Director, Customer Services Infrastructure and Operations, Department of the Treasury, Room 2150, 1425 New York Avenue, NW., Washington, DC 20220. The system managers for the Treasury components are:

(1) a. DO: Chief, Telecommunications Branch, Automated Systems Division, Room 1121, 1500 Pennsylvania Avenue, NW., Washington, DC 20220.

b. TIGTA: Director, Human Resources, 1125 15th St., NW., Suite 700A, Washington, DC 20005.

(2) TTB: Alcohol and Tobacco Tax and Trade Bureau: 1310 G. St., NW., Washington, DC 20220.

(3) OCC: Associate Director, Telecommunications, Systems Support Division, Office of the Comptroller of the Currency, 835 Brightseat Road, Landover, MD 20785.

(4) BEP: Deputy Associate Director (Chief Information Officer), Office of Information Systems, Bureau of Engraving and Printing, Room 711A, 14th and C Street, SW., Washington, DC 20228.

(5) FMS: Director, Platform Engineering Division, 3700 East West Highway, Hyattsville, MD 20782.

(6) IRS: Official prescribing policies and practices: National Director, Operations and Customer Support, Internal Revenue Service, 1111 Constitution Avenue, NW., Washington, DC 20224. Office maintaining the system: Director, Detroit Computing Center, (DCC), 1300 John C. Lodge Drive, Detroit, MI 48226.

(7) Mint: Assistant Director for Information Technology, 801 9th Street, NW., Washington, DC 20220.

(8) BPD: Official prescribing policies and practices: Assistant Commissioner (Office of Information Technology), Avery Street Building, 320 Avery Street, Parkersburg, WV. Office maintaining the system: Division of Communication, 200 Third Street, Parkersburg, WV 26106-1328.

(9) OTS: Director, Information Systems, Administration and Finance, 1700 G Street, NW., 2nd Floor, Washington, DC 20552.

(10) FinCEN: Director, P.O. Box 39, Vienna, VA 22183-0039.

Notification procedure:

Individuals seeking notification and access to any record contained in the system of records, or seeking to contest its content, may inquire in accordance with instructions pertaining to individual Treasury components appearing at 31 CFR part 1, subpart C, appendices A-M.

Record Access procedures:

Individuals seeking notification and access to any record contained in this system of records, or seeking to contest its content, may inquire in accordance with instructions pertaining to individual Treasury components appearing at 31 CFR part 1, subpart C, appendices A-M.

Contesting Record procedures:

See “Notification procedure” above.

Record source categories:

Telephone assignment records, call detail listings, results of administrative inquiries to individual employees, contractors or offices relating to assignment of responsibility for placement of specific long distance or local calls.

Exemptions claimed for the system:

None.

TREASURY .011

System name:

Treasury Safety Incident Management Information System (SIMIS)—Treasury.

System location:

Department of the Treasury, 1500 Pennsylvania Ave., NW, Washington, DC 20220. Other locations at which the system is maintained by Treasury components and their associated field offices are:

(1) Departmental Offices (DO):

a. 1500 Pennsylvania Ave., NW., Washington, DC 20220.

b. The Office of Inspector General (OIG): 740 15th Street, NW., Washington, DC 20220.

c. Treasury Inspector General for Tax Administration (TIGTA): 1125 15th Street, NW., Washington, DC 20005.

d. Community Development Financial Institutions Fund (CDFI): 601 13th Street, NW., Washington, DC 20005.

(2) Alcohol and Tobacco Tax and Trade Bureau (TTB): 1310 G. St., NW., Washington, DC 20220.

(3) Office of the Comptroller of the currency (OCC): 250 E Street, SW., Washington, DC 20219-0001.

(4) Bureau of Engraving and Printing (BEP): 14th & C Streets, SW., Washington, DC 20228.

(5) Financial Management Service (FMS): 401 14th Street, SW., Washington, DC 20227.

(6) Internal Revenue Service (IRS): 1111 Constitution Avenue, NW., Washington, DC 20224.

(7) United States Mint (MINT): 801 9th Street, NW., Washington, DC 20220.

(8) Bureau of the Public Debt (BPD): 200 Third Street, Parkersburg, WV 26101, and Avery Street Building, 320 Avery Street, Parkersburg, WV.

(9) Office of Thrift Supervision (OTS): 1700 G Street, NW., Washington, DC 20552.

(10) Financial Crimes Enforcement Network (FinCEN), Vienna, VA 22183-0039.

Categories of individuals covered by the system:

Current and past Treasury employees and contractors who are injured on Department of the Treasury property or while in the performance of their duties offsite. Members of the public who are injured on Department of the Treasury property are also included in the system.

Categories of records in the system:

Records in this system pertain to medical injuries and occupational illnesses of employees which include social security numbers, full names, job titles, government and home addresses (city, state, zip code), home telephone numbers, work telephone numbers, work shifts, location codes, and gender. Mishap information on environmental incidents, vehicle accidents, property losses and tort claims will be included also. In addition, there will be records such as results of investigations, corrective actions, supervisory information, safety representatives names, data as to chemicals used, processes affected, causes of losses, etc. Records relating to contractors include full name, job title, work addresses (city, state, zip code), work telephone number, location codes, and gender. Records pertaining to a member of the public include full name, home address (city, state, zip code), home telephone number, location codes and gender. (Official compensation claim file, maintained by the Department of Labor's Office of Workers' Compensation Programs (OWCP) is part of that agency's system of records and not covered by this notice.)

Authority for maintenance of the system:

5 U.S.C. 301, Executive Order 12196, section 1-2.

Purpose(s):

This system of records supports the development and maintenance of a Treasury-wide incident tracking and reporting system and will make it possible to streamline a cumbersome paper process. Current web technology will be employed and facilitate obtaining real-time data and reports related to injuries and illnesses. As an enterprise system for the Department and its component bureaus, incidents analyses can be performed instantly to affect a more immediate implementation of corrective actions and to prevent future occurrences. Information pertaining to past and all current employees and contractors injured on Treasury property or while in the performance of their duties offsite, as well as members of the public injured while on Federal property, will be gathered and stored in SIMIS. This data will be used for analytical purposes such as trend analysis, and the forecasting/projecting of incidents. The data will be used to generate graphical reports resulting from the analyses.

Routine uses of records maintained in the system, including categories of users and the purposes of such uses:

These records may be used to:

(1) Disclose pertinent information to appropriate Federal, State, local, or foreign agencies, or other public authority responsible for investigating or prosecuting the violations of, or for enforcing or implementing a statute, rule, regulation, order, or license, where the disclosing agency becomes aware of an indication of a violation or potential violation of civil or criminal law or regulation;

(2) Disclose pertinent information to the Department of Justice for the purpose of litigating an action or seeking legal advice;

(3) Disclose information to the Office of Workers' Compensation Programs, Department of Labor, which is responsible for the administration of the Federal Employees' Worker Compensation Act (FECA);

(4) Disclose information to a Federal, State, local, or other public authority maintaining civil, criminal or other relevant enforcement information or other pertinent information, which has requested information relevant to or necessary to the requesting agency's, bureau's, or authority's hiring or retention of an individual, or issuance of a security clearance, license, contract, grant, or other benefit;

(5) Disclose information in a proceeding before a court, adjudicative body, or other administrative body before which the Department of the Treasury (agency) is authorized to appear when: (a) The agency, or (b) any employee of the agency in his or her official capacity, or (c) any employee of the agency in his or her individual capacity where the Department of Justice or the agency has agreed to represent the employee; or (d) the United States, when the agency determines that litigation is likely to affect the agency, is a party to litigation or has an interest in such litigation, and the use of such records by the agency is deemed to be relevant and necessary to the litigation or administrative proceeding and not otherwise privileged;

(6) Disclose information to a congressional office in response to an inquiry made at the request of the individual to whom the record pertains;

(7) Disclose information to a contractor for the purpose of processing administrative records and/or compiling, organizing, analyzing, programming, or otherwise refining records subject to the same limitations applicable to U.S. Department of the Treasury officers and employees under the Privacy Act;

(8) Disclose information to a court, magistrate, or administrative tribunal in the course of presenting evidence, including disclosures to opposing counsel or witnesses in the course of civil discovery, litigation, or settlement negotiations or in connection with criminal law proceedings or in response to a subpoena where relevant or potentially relevant to a proceeding;

(9) Disclose information to unions recognized as exclusive bargaining representatives under 5 U.S.C. chapter 71, arbitrators, and other parties responsible for the administration of the Federal labor-management program if needed in the performance of their authorized duties;

(10) Disclose information to the Equal Employment Opportunity Commission, Merit Systems Protection Board, arbitrators, the Federal Labor Relations Authority, and other parties responsible for the administration of the Federal labor management program for the purpose of processing any corrective actions or grievances or conducting administrative hearings or appeals, or if needed in the performance of other authorized duties;

(11) Disclose information to a Federal, State, or local public health service agency as required by applicable law, concerning individuals who have contracted or who have been exposed to certain communicable diseases or conditions. Such information is used to prevent further outbreak of the disease or condition;

(12) Disclose information to representatives of the General Services Administration (GSA) or the National Archives and Records Administration (NARA) who are conducting records management inspections under authority of 44 U.S.C. 2904 and 2906.

Policies and practices for storing, retrieving, accessing, retaining, and disposing of records in the system:

Storage:

Maintained in hardcopy and electronic media.

Retrievability:

Records can be retrieved by name, or by categories listed above under “Categories of records in the system.”

Safeguards:

Protection and control of any sensitive but unclassified (SBU) records are in accordance with TD P 7110, Department of the Treasury Security Manual. The hardcopy files and electronic media are secured in locked rooms. Access to the records is available only to employees responsible for the management of the system and/or employees of program offices who have a need for such information and have been subject to a background check and/or security clearance.

Retention and disposal:

Records are retained and disposed of in accordance with the appropriate National Archives and Records Administration General Records Schedule No. 1.

System manager(s) and address:

Department of the Treasury official prescribing policies and practices: Director, Office of Safety, Health and Environment, Department of the Treasury, Washington, DC 20220. The system managers for the Treasury components are:

(1) DO: a. Director, Occupational Safety and Health Office, Room 6204 Annex, 1500 Pennsylvania Ave., NW., Washington, DC 20220.

b. OIG: Safety and Occupational Health Manager, 740 15th Street, NW., Washington, DC 20220.

c. TIGTA: Director, Human Resources, 1125 15th Street, NW., Suite 700A, Washington, DC 20005.

d. CDFI: Safety and Occupational Health Manager, 601 13th Street, NW., Washington, DC 20005.

(2) TTB: Alcohol and Tobacco Tax and Trade Bureau: 1310 G. St., NW., Washington, DC 20220.

(3) OCC: Safety and Occupational Health Manager, 250 E Street, SW., Washington, DC 20219-0001.

(4) BEP: Safety and Occupational Health Manager, 14th & C Streets, SW., Washington, DC 20228.

(5) FMS: Safety and Occupational Health Manager, PG 3700 East-West Highway, Hyattsville, MD 20782.

(6) IRS: Safety and Occupational Health Manager, 1111 Constitution Avenue, NW., Washington, DC 20224.

(7) MINT: Safety and Occupational Health Manager, 801 9th Street, NW., Washington, DC 20220.

(8) BPD: Administrative Support Branch Manager, 200 Third Street, Parkersburg, WV., and Avery Street Building, 320 Avery Street, Parkersburg, WV.

(9) OTS: Safety and Occupational Health Manager, 1700 G Street, NW., Washington, DC 20552.

(10) FinCEN: Safety and Occupational Health Manager, P.O. Box 39, Vienna, VA 22183-0039.

Notification procedure:

Individuals seeking notification and access to any record contained in the system of records, or seeking to contest its content, may inquire in accordance with instructions pertaining to individual Treasury components appearing at 31 CFR part 1, subpart C, appendices, A-L.

Record access procedures:

See “Notification procedures” above.

Contesting record procedures: See “Notification procedures” above.

Record source categories:

Information is obtained from current Treasury employees, contractors, members of the public, witnesses, medical providers, and relevant industry experts.

Exemptions claimed for the system:

None.

TREASURY .012

System Name:

Fiscal Service Public Key Infrastructure—Treasury.

System Location:

The system of records is located at:

(1) The Bureau of the Public Debt (BPD), U.S. Department of the Treasury, in Parkersburg, WV, and,

(2) The Financial Management Service (FMS), U.S. Department of the Treasury, Washington, DC, and Hyattsville, MD. The system managers maintain the system location of these records.

Categories of Individuals Covered By the System:

Digital certificates may be issued to any of the following individuals: A Federal agency certifying officer who authorizes vouchers for payment; Federal employees who approve the grantees' accounts; an individual authorized by a state or grantee organization to conduct business with the Fiscal Service; employees of the Fiscal Service; fiscal agents; and contractors.

Categories of Records in the System:

The system contains information needed to establish accountability and audit control of digital certificates. It also contains records that are needed to authorize an individual's access to a Treasury network. Depending on the service(s) requested by the customer, information may also include:

Personal identifiers—name, including previous name used, and aliases; organization, employer name and address; Social Security number, Tax Identification Number; physical and electronic addresses; telephone, fax, and pager numbers; bank account information (name, type, account number, routing/transit number); Federal-issued photograph ID; driver's license information or state ID information (number, state, and expiration date); military ID information (number, branch, expiration date); or passport/visa information (number, expiration date, and issuing country).

Authentication aids—personal identification number, password, account number, shared-secret identifier, digitized signature, other unique identifier.

The system contains records on public key data related to the customer, including the creation, renewal, replacement or revocation of digital certificates, including evidence provided by applicants for proof of identity and authority, sources used to verify an applicant's identity and authority, and the certificates issued, denied and revoked, including reasons for denial and revocation.

Authority for Maintenance of the System:

5 U.S.C. 301, 31 U.S.C. 321, and the Government Paperwork Elimination Act, Pub. L. 105-277.

Purposes:

We are establishing the Fiscal Service Public Key Infrastructure System to:

(1) Use electronic transactions and authentication techniques in accordance with the Government Paperwork Elimination Act;

(2) Facilitate transactions involving the transfer of information, the transfer of funds, or where parties commit to actions or contracts that may give rise to financial or legal liability, where the information is protected under the Privacy Act of 1974, as amended;

(3) Maintain an electronic system to facilitate secure, on-line communication between Federal automated systems, and between Federal employees or contractors, by using digital signature technologies to authenticate and verify identity;

(4) Provide mechanisms for non-repudiation of personal identification and access to Treasury systems including, but not limited to SPS and ASAP; and

(5) Maintain records relating to the issuance of digital certificates utilizing public key cryptography to employees and contractors for purpose of the transmission of sensitive electronic material that requires protection.

Routine Uses of Records Maintained in the System, Including Categories of Users and the Purposes of Such Uses:

These records may be disclosed to:

(1) Congressional offices in response to an inquiry made at the request of the individual to whom the record pertains;

(2) Appropriate Federal, State, local, or foreign agencies responsible for investigating or prosecuting the violations of, or for enforcing or implementing a statute, rule, regulation, order, or license, where the disclosing agency becomes aware of a potential violation of civil or criminal law or regulation;

(3) A court, magistrate, or administrative tribunal in the course of presenting evidence, including disclosures to opposing counsel or witnesses in the course of civil discovery, litigation, or settlement negotiations or in connection with criminal law proceedings or in response to a subpoena;

(4) A Federal, State, local or other public authority maintaining civil, criminal or other relevant enforcement information or other pertinent information, which has requested information relevant to or necessary to the requesting agency's, bureau's, or authority's, hiring or retention of an individual, or issuance of a security clearance, license, contract, grant or other benefit;

(5) Agents or contractors who have been engaged to assist the Department in the performance of a service related to this system of records and who need to have access to the records in order to perform the activity;

(6) The Department of Justice when seeking legal advice or when (a) the Department of the Treasury or (b) the disclosing agency, or (c) any employee of the disclosing agency in his or her official capacity, or (d) any employee of the agency in his or her individual capacity where the Department of Justice has agreed to represent the employee, or (e) the United States, where the disclosing agency determines that litigation is likely to affect the disclosing agency, is a party to litigation or has an interest in such litigation, and the use of such records by the Department of Justice is deemed by the agency to be relevant and necessary to the litigation; and

(7) Representatives of the National Archives and Records Administration (NARA) who are conducting records management inspections under authority of 44 U.S.C. 2904 and 2906.

Policies and Practices for Storing, Retrieving, Accessing, Retaining, and Disposing of Records in the System:

Storage:

Records are maintained on electronic media, multiple client-server platforms that are backed-up to magnetic tape or other storage media, and/or hard copy.

Retrievability:

Records may be retrieved by name, alias name, Social Security number, Tax Identification Number, account number, or other unique identifier.

Safeguards:

These records are maintained in controlled access areas. Identification cards are verified to ensure that only authorized personnel are present. Electronic records are protected by restricted access procedures, including the use of passwords and sign-on protocols which are periodically changed. Only employees whose official duties require access are allowed to view, administer, and control these records. Copies of records maintained on computer have the same limited access as paper records.

Retention and Disposal:

Records are maintained in accordance with National Archives and Records Administration retention schedules. Paper and microform records ready for disposal are destroyed by shredding or maceration. Records in electronic media are electronically erased using accepted techniques.

System Managers and Addresses:

(1) Assistant Commissioner, Office of Information Technology, Bureau of the Public Debt, 200 Third Street, Parkersburg, WV 26101, and,

(2) Assistant Commissioner, Information Resources, and Chief Information Officer, Financial Management Service, 3700 East West Highway, Hyattsville, MD 20782.

Notification Procedure:

Individuals seeking notification and access to any record contained in the system of records, or seeking to contest its content, may inquire in accordance with instructions pertaining to individual Treasury components appearing at 31 CFR part 1, subpart C:

Appendix I for records within the custody of the Bureau of the Public Debt, and,

Appendix G for records within the custody of the Financial Management Service.

Record Access Procedures:

See “Notification procedure” above.

Contesting Record Procedures:

See “Notification procedure” above.

Record Source Categories:

The information contained in this system is provided by or verified by the subject individual of the record, as well as Federal and non-Federal sources such as private employers.

Exemptions Claimed For The System:

None.

[FR Doc. 05-14901 Filed 7-29-05; 8:45 am]

BILLING CODE 4811-33-P